DEPARTMENT OF AGRICULTURE

Natural Resources Conservation Service

Poinsett Watershed, Craighead and Poinsett Counties, AR

AGENCY: Natural Resources Conservation Service, USDA.

ACTION: Notice of a Finding of No Significant Impact.

SUMMARY: Pursuant to Section 102 (2)(c) of the National Environmental Policy Act of 1969; the Council on Environmental Quality Regulations (40 CFR part 1500); and the Natural Resources Conservation Service Regulations (7 CFR part 650), Natural Resources Conservation Service, U.S. Department of Agriculture, gives notice than an environmental impact statement is not being prepared for Segment No. 7 of Main Ditch, Poinsett Watershed, Craighead and Poinsett Counties, Arkansas.

FOR FURTHER INFORMATION CONTACT: Kalven L. Trice, State Conservationist, Natural Resources Conservation Service, Room 3416, Federal Building, 700 West Capitol Avenue, Little Rock, Arkansas 72201-3225.

SUPPLEMENTARY INFORMATION: The environmental assessment of this federally assisted action indicates that the project will not cause significant local, regional, or national impacts on the environment. As a result of these findings, Kalven L. Trice, State Conservationist, has determined that the preparation and review of an environmental impact statement are not needed for this project.

The purpose of this project is to provide flood control. The planned works of improvement include four miles of channel improvement for Segment No. 7 of the Main Ditch south of Jonesboro, Arkansas in the Poinsett Watershed.

A limited number of copies of the FONSI are available at the above address to fill single copy requests. Basic data developed during the environmental assessment are on file and may be reviewed by contacting David Weeks, Assistant State Conservationist Natural Resource Planning, Natural Resources Conservation Service, Room 3416, Federal Building, 700 West Capitol Avenue, Little Rock, Arkansas 72201-3225.

No administrative action on implementation of the proposal will be taken until 30 days after the date of this publication in the Federal Register.

Dated: October 15, 2004.
Kalven L. Trice,
State Conservationist.

Finding of No Significant Impact for Segment No. 7 of the Main Ditch Poinsett Watershed; Craighead and Poinsett Counties, Arkansas

Poinsett Watershed is a federally assisted action authorized under Pub. L. 83-566, Watershed Protection and Flood Prevention Act of 1954, as amended. The original Poinsett Watershed Work Plan was prepared in February 1968. The primary purpose of the plan is to provide flood reduction to the agricultural lands subject to flood damages. The plan was prepared by the local sponsoring organizations with technical assistance from the Natural Resources Conservation Service (NRCS). The Supplemental Watershed Plan No. 4 was prepared to add Segment No. 7 of the Main Ditch to the Plan. The Environmental Assessment (EA) was prepared to update and review items that are of concern with channel improvement for Segment No. 7 of the Main Ditch considering the present rules and regulations.

This particular action involves only the channel improvement of Segment No. 7 of the Poinsett Watershed. Federal assistance will be provided under authority of the Pub. L. 83-566, Watershed Protection and Flood Prevention Act of 1954, as amended. The EA was conducted in consultation with local, State, and Federal agencies as well as with interested organizations and individuals.

Data developed during the assessment are available for public review at the following location: U.S. Department of Agriculture, Natural Resources Conservation Service, Room 3416, Federal Building, 700 West Capitol Avenue, Little Rock, Arkansas 72201-3225.

The drainage area at the downstream end of the Segment No. 7 is 20.6 square miles. The project area is located in northeastern Arkansas in Craighead and Poinsett Counties. The southern limit of the city of Jonesboro is located in the northern most part of the watershed. The watershed land use of Segment No. 7 is about 30 percent (%) urban, 40% cropland, and 30% pasture, range, and woods.

Local Sponsoring organizations are Poinsett Watershed Improvement District, Craighead County Conservation District, and Poinsett County Conservation District.

Alternatives

Alternative 1 is the No Action or Future Without Project. This alternative consists of maintaining the existing channel capacity of Segment No. 7 of the Main Ditch. No Federal funds would be spent on Segment No. 7. Flood damages to agricultural areas, infrastructure, and residential area in the floodplain would continue at the present level.

Alternative 2 is the Channel Improvement of Segment No. 7. This alternative consists of improving the existing channel from station 1328+00 to 1542+60, two rock chutes to stabilize grade, and 33 grade stabilization structures to drop water from the field or drains into the ditch improvement. This alternative will meet the need and purpose of the project to provide flood protection benefits to the agricultural land along Segment No. 7, infrastructure in the project area, and residences in the southern part of Jonesboro.

Recommended Action

Alternative 2 is the recommended alternative and consists of channel improvement of Segment No. 7 of the Main Ditch to provide for flood prevention benefits. This alternative provides the most net benefits and is the National Economic Development (NED) Plan.

Effects of Recommended Action

Benefits of Recommended Action

The estimated total average annual monetary benefits will be $94,220. The average annual cost is $78,000, resulting in a benefit to cost ratio of 1.2 to 1.0.

Impacts of Recommended Action

Floodwater Impact

The existing channel has inadequate capacity to protect cropland and other agricultural lands from flooding by moving floodwaters from Jonesboro through the agricultural areas. The average annual area flooded within Segment No. 7 evaluation reach is approximately 1770 acres. Channel improvement of Segment No. 7 would reduce flood damages to agricultural lands, infrastructure, and other private lands. The average annual area flooded would be reduced by 1,470 acres.

Archeological and Historical Impact

Requirements of Section 106 of the National Historic Preservation Act of 1966 as amended were fully implemented. Planning activities for the protection and preservation of historic properties have been conducted in compliance with Section 106 and Section 110 (f) and (k) of the National Historic Preservation Act. Processes consistent with the Advisory Council on Historic Preservation regulations (36 CFR 800) have been followed by NRCS. No known cultural resources were identified. NRCS will take action to protect and/or recover any historic properties discovered during construction.

Fish and Wildlife Resources Impact

The land use on both sides of the ditch is open cropland with the exception of two small wooded areas. The open cropland affords food for seed-eating birds and provides some ground cover. Water within the ditch is very shallow and unshaded. Some species of fish such as sunfish, carp, buffalo, and catfish may use the ditch at various times. However, fishery habitats are very low quality and are of very little value as a fishery resource.

The channel improvement will have minor short-term impact on the existing fishery habitats. Reduction in flooding depth and duration in the floodplain will improve the upland wildlife habitats on agricultural land.

Threatened and Endangered Species Impact

The endangered fat pocketbook Potamilus copax (mussel) occurs within Craighead County, Arkansas. However, the U.S. Fish and Wildlife Service has determined that this endangered species is not located within the project area (USFWS, 2004). The project will have no adverse impacts to any threatened and endangered species.

Prime Farmland

Presently, there are 4,005 acres of prime farmland in the project area. Prime farmland will be impacted by reduced frequency and depth of flooding on 1,209 acres. Enlargement of the planned channel will result in a loss of 78 acres of prime farmland adjacent to the existing ditch. Overall there will be a positive impact on prime farmland due to a reduction in flooding.

Wetlands Impact

The land use on both sides of the ditch is open cropland with the exception of two small wooded areas. The wooded area located at approximately from channel station 1369+00 to station 1381+00 has some minor wetlands. These are located greater than 90 feet from the centerline of the existing channel.

Construction methods will be used to avoid any adverse impacts. The channel will be constructed from both sides with spoil placed approximately equally on both sides of the ditch except at the location from channel station 1369+00 to station 1381+00. At that location construction methods will be used to limit fill on the side where the wooded area is located. Constructed channel dimensions on the wooded area side will not extend past 90 feet with limited fill on that side to maintain existing wetlands and spoil elevations. Using these construction methods, there will be no adverse impacts to the minor wetlands within the wooded area.

Environmental Values Changed or Lost

Disturbed areas will be planted to permanent grasses.

Resource | Impact
Land use changes | No impact.
Floodplains | Positive impact by reducing flood damages.
Fish and Wildlife Habitats | Minor short-term adverse impacts on these habitats.
Threatened and Endangered Species | No adverse impact on threatened and endangered species.
Wetlands | No impact on wetlands.
Cultural Resources | No impact.
Prime Farmland | Positive impact by reducing flooding on prime farmland.

Irreversible and Irretrievable Commitment of Resources

Construction, operation, and maintenance of the channel improvement of Segment No. 7 of the Main Ditch will require irretrievable commitments of energy, material, and financial resources, as typical for similar projects.

Consultation and Public Participation

Project Sponsors

Original local sponsoring organizations (sponsors) are the Poinsett Watershed Improvement District, Craighead Conservation District, and Poinsett Conservation District. At the initiation of the planning process, meetings were held with representatives of the sponsors to ascertain their watershed concerns and project purposes. Meetings with the sponsors were held throughout the planning process.

Planning Team

An Interdisciplinary Planning Team provided for the technical administration of this project. Examples of tasks completed by the Planning Team include, but are not limited to, preliminary investigations, hydrologic and engineering analysis, economic analysis, formulating and evaluating alternatives, and writing the Supplemental Watershed Plan and EA. Informal discussions among the planning team, sponsors, NRCS, and landowners were conducted throughout the planning period.

Input From Agencies and Groups

Twenty-eight letters were sent to Federal, State, and local agencies requesting information available and concerns on Poinsett Watershed, Segment No. 7 of the Main Ditch. A meeting and field tour with agencies were held on May 5, 2004, to assess proposed measures and their potential impact on resources of concern. Eleven Federal, State, and local agencies were invited to participate. The following agencies participated in this field review:

• Arkansas Department of Environmental Quality;

• USDA-NRCS State, Area, Project, and Field levels;

• Poinsett Watershed Improvement District.

Other agencies invited but not attending included the U.S. Fish and Wildlife Service (FWS), U.S. Army Corps of Engineers, and Environmental Protection Agency (EPA).

Public Participation

A public meeting was held on April 14, 2004, to explain the proposed channel improvement and to scope resource problems, issues, and concerns of local residents associated with the Poinsett Watershed, Segment No. 7 of the Main Ditch. Notice of the public meeting was posted and published in the local newspaper over three consecutive weeks. In addition, a letter of notice of meeting and comment forms were mailed to potentially affected landowners around Segment No. 7 of the Main Ditch. The meeting participants provided verbal and written comment on issues and concerns to be considered in the planning process.

A coordination meeting with project sponsors and NRCS was held on June 10, 2004, to summarize planning accomplishments, convey results of the hydraulic analysis, and present various channel improvement alternatives. Consensus was reached on the layout and configuration of the Channel Improvement Alternative. A follow-up meeting was conducted with the sponsors, officials with the city of Jonesboro, and Craighead County on August 31, 2004.

A Final Draft was distributed on July 21, 2004, for interagency and public review to appropriate local, state, and federal agencies and other interested groups. The availability of Final Draft was publicized in the local newspaper. The Final Draft was distributed to the following agencies and groups for review and comment.

Local Groups and Agencies

Poinsett County Watershed Improvement District, Craighead County Conservation District, Poinsett County Conservation District, Mayor, City of Jonesboro, and Craighead County Judge.

Federal Agencies

U.S. Fish and Wildlife Service, U.S. Environmental Protection Agency, U.S. Army Corps of Engineers, Memphis District, USDA Forest Service, Southern Region, USDA/Farm Service Agency, USDA/Rural Development, USDA/FSA, and Federal Highway Administration.

State Agencies

Governor's Office, State Clearinghouse, Arkansas Soil and Water Conservation Commission, Arkansas Game and Fish Commission, AR Department of Health, AR Department of Parks and Tourism, AR Waterways Commission, AR Forestry Commission, AR Natural Heritage Commission, Arkansas Department of Environmental Quality, AR Department of Economic Development, AR Highway & Transportation Dept., Natural Resources Leasing, Arkansas Geological Commission, Arkansas Department of Emergency Management, and Arkansas Water Resources Research Center.

Environmental Organizations

Wildlife Management Institute, Arkansas Wildlife Federation, National Audubon Society, and National Wildlife Federation.

After a 45-day review period, comments were incorporated into the Final Supplemental Watershed Plan and EA.

Determination of Significance

Table 1 displays a summary of comparison of the environmental impacts on important resource concerns.

Table 1.—Summary Comparison of Impacts on Important Resource Concerns
Effects | Alternative No. 1 No action | Alternative No. 2 Channel improvement (NED)
Structural | Maintain Segment No. 7 channel at existing flow capacity | Improve channel of Segment No. 7 to required flow capacity.
Project Investment | $0 | $1,292,480.
National Economic Development
Beneficial Annual | $0 | $94,226.
Adverse Annual | $0 | $78,000.
Net Beneficial | $0 | $16,226.
Environmental Quality Account
Threatened and Endangered Species | No impact | No impact.
Streams, Lakes, and Wetlands | No impact | No impact.
Prime Farmland | No impact | Reduce flooding on 1209 acres.
Fish and Wildlife Habitats | Adversely impacted | No impact.
Water Quality | Increase in stream turbidity | Short term decrease in water quality during construction and improvement of water quality long term.
Sedimentation | No impact | No significant long term impact.
Other Social Effects
Average Annual Flood damages | Increase in average annual acres flooded above existing 1990 acres and in flood damages to infrastructure and residences | Flood protection to agricultural lands by reducing average annual area flooded by 1,385 acres, reduce flood damages to infrastructure and residences.
Cultural and Historic Resources | No impact | No impact.
Land Use and Floodplain Management | Land use might change as increased flooding decreases land productivity | No change to land use and improvement to land management decisions.
Transportation and Access | Increased flooding of five roads and one bridge located downstream | Transportation access would be maintained and improved.
Regional Economic Development Account (Positive Effects/Negative Effects Annualized)
Region | $0 / $0 | $0 / $27,300.
Nation | $0 / $0 | $94,226 / $50,700.

Conclusion

The purpose of the improvement to Segment No. 7 of the Main Ditch is to provide flood prevention benefits to the agricultural lands, infrastructure, and residential area along Segment No. 7. The Environmental Assessment summarized above indicates that this Federal action will not cause significant local, regional, or national impacts on the environment. I find that neither the proposed action nor any of the alternatives is a major Federal action significantly affecting the quality of the human environment. Therefore, based on above findings, I have determined that an Environmental Impact Statement for Segment No. 7 of the Main Ditch, Poinsett Watershed is not required.

Dated: October 15, 2004.
Kalven L. Trice,
State Conservationist.

[FR Doc. 04-24546 Filed 11-3-04; 8:45 am]

BILLING CODE 3410-16-P